DEPARTMENT OF COMMERCE

International Trade Administration

[C-570-128]

Mattresses From the People's Republic of China: Initiation of Countervailing Duty Investigation

AGENCY: Enforcement and Compliance, International Trade Administration, Department of Commerce.

ACTION: Notice.

SUMMARY: On March 31, 2020, the U.S. Department of Commerce (Commerce) received a countervailing duty (CVD) petition (Petition) concerning imports of mattresses from the People's Republic of China (China), filed in proper form on behalf of the petitioners, domestic producers of mattresses and certified unions that represent workers engaged in the domestic production of mattresses.

DATES: Applicable April 20, 2020.

FOR FURTHER INFORMATION CONTACT: Theodore Pearson, AD/CVD Operations, Office I, Enforcement and Compliance, International Trade Administration, U.S. Department of Commerce, 1401 Constitution Avenue NW, Washington, DC 20230; telephone: (202) 482-2631.

SUPPLEMENTARY INFORMATION:

The Petition

On March 31, 2020, the U.S. Department of Commerce (Commerce) received a countervailing duty (CVD) petition (Petition) concerning imports of mattresses from the People's Republic of China (China), filed in proper form on behalf of the petitioners,¹ domestic producers of mattresses and certified unions that represent workers engaged in the domestic production of mattresses.² The petition was accompanied by antidumping (AD) petitions concerning imports of mattresses from Cambodia, Indonesia, Malaysia, Serbia, Thailand, Turkey, and Vietnam.³

¹ Brooklyn Bedding, Corsicana Mattress Company, Elite Comfort Solutions, FXI, Inc., Innocor, Inc., Kolcraft Enterprises, Inc., Leggett & Platt, Incorporated, the International Brotherhood of Teamsters, and United Steel, Paper and Forestry, Rubber, Manufacturing, Energy, Allied Industrial and Service Workers International Union, AFL-CIO (USW) (collectively, the petitioners).

² See Petitioners' Letter, “Mattresses from Cambodia, China, Indonesia, Malaysia, Serbia, Thailand, Turkey, and Vietnam—Antidumping and Countervailing Duty Petitions,” dated March 31, 2020 (the Petitions).

³ Id.

Between April 3 and 14, 2020, Commerce requested supplemental information pertaining to certain aspects of the Petition.⁴ The petitioners filed responses to these requests between April 8 and April 16, 2020.⁵

⁴ See Commerce's Letter, “Petitions for the Imposition of Antidumping Duties on Imports of Mattresses from Cambodia, Indonesia, Malaysia, Serbia, Thailand, Turkey, and Vietnam and Countervailing Duties on Imports from China: Supplemental Questions,” dated April 3, 2020 (General Issues Questionnaire); Commerce's Letter, “Petition for the Imposition of Countervailing Duties on Imports of Mattresses from the People's Republic of China: Supplemental Questions,” dated April 3, 2020; Commerce's Letter, “Petition for the Imposition of Countervailing Duties on Imports of Mattresses from the People's Republic of China: Second Supplemental Questions,” dated April 10, 2020; Memorandum, “Telephone Conversation with the Petitioners regarding Antidumping Duty Petitions Covering Mattresses from Cambodia, Indonesia, Malaysia, Serbia, Thailand, Turkey, and Vietnam and the Countervailing Duty Petition Covering Mattresses from People's Republic of China,” dated April 10, 2020 (Memorandum of Telephone Conversation); and Memorandum, “Phone Call with Counsel to the Petitioners,” dated April 14, 2020.

⁵ See Petitioners' Letter, “Mattresses from Cambodia, China, Indonesia, Malaysia, Serbia, Thailand, Turkey, and Vietnam: Responses to Petition Supplemental Questionnaires,” dated April 8, 2020 at Volume I (First General Issues Supplement) and at Volume III (First China CVD Supplement); Petitioners' Letter, “Mattresses from China: Response to Petition Second Supplemental Questionnaire,” dated April 14, 2020; and Petitioners' Letter, “Mattresses from Cambodia, China, Indonesia, Malaysia, Serbia, Thailand, Turkey, and Vietnam: Mattress Petitioners' Response to Request for Additional Information Regarding Industry Support,” dated April 16, 2020 (Industry Support Supplement).

In accordance with section 702(b)(1) of the Tariff Act of 1930, as amended (the Act), the petitioners allege that the Government of China (GOC) is providing countervailable subsidies, within the meaning of sections 701 and 771(5) of the Act, to producers of mattresses in China, and that such imports are materially injuring, or threatening material injury to, the domestic industry producing mattresses in the United States. Consistent with section 702(b)(1) of the Act and 19 CFR 351.202(b), for those alleged programs on which we are initiating a CVD investigation, the Petition was accompanied by information reasonably available to the petitioners supporting its allegations.

Commerce finds that the petitioners filed the Petition on behalf of the domestic industry because the petitioners are an interested party, as defined in section 771(9)(C) of the Act. Commerce also finds that the petitioners demonstrated sufficient industry support with respect to the initiation of the requested CVD investigation.⁶

⁶ See “Determination of Industry Support for the Petition” section, infra.

Period of Investigation

Because the Petition was filed on March 31, 2020, the period of investigation (POI) is January 1, 2019 through December 31, 2019.⁷

⁷ See 19 CFR 351.204(b)(2).

Scope of the Investigation

The merchandise covered by this investigation is mattresses from China. For a full description of the scope of this investigation, see the Appendix to this notice.

Comments on Scope of the Investigation

On April 3, 2020, Commerce requested further information from the petitioner regarding the proposed scope to ensure that the scope language in the Petition is an accurate reflection of the products for which the domestic industry is seeking relief.⁸ On April 8, 2020, the petitioners revised the scope.⁹ On April 10, 2020, Commerce requested further clarification from the petitioner regarding the proposed scope.¹⁰ On April 13, 2020, the petitioner further modified the scope of the Petition to clarify the description of the merchandise covered by the Petition.¹¹ The description of the merchandise covered by this investigation, as described in the Appendix to this notice, reflects these clarifications.

⁸ See General Issues Questionnaire.

⁹ See First General Issues Supplement at Exhibit I-Supp-5.

¹⁰ See Memorandum of Telephone Conversation.

¹¹ See Second General Issues Supplement at Exhibit I-Supp2-1.

As discussed in the Preamble to Commerce's regulations, we are setting aside a period for interested parties to raise issues regarding product coverage (scope).¹² Commerce will consider all comments received from interested parties and, if necessary, will consult with interested parties prior to the issuance of the preliminary determination. If scope comments include factual information,¹³ all such factual information should be limited to public information. To facilitate preparation of its questionnaires, Commerce requests that all interested parties submit scope comments by 5:00 p.m. Eastern Time (ET) on May 11, 2020, which is the next business day after 20 calendar days from the signature date of this notice.¹⁴ Any rebuttal comments, which may include factual information, must be filed by 5:00 p.m. ET on May 21, 2020, which is 10 calendar days from the initial comment deadline.¹⁵

¹² See Antidumping Duties; Countervailing Duties, 62 FR 27296, 27323 (May 19, 1997).

¹³ See 19 CFR 351.102(b)(21) (defining “factual information”).

¹⁴ In this case, 20 days after initiation falls on May 10, 2020, a Sunday. Where a deadline falls on a weekend or federal holiday, the appropriate deadline is the next business day. See Notice of Clarification: Application of “Next Business Day” Rule for Administrative Determination Deadlines Pursuant to the Tariff Act of 1930, As Amended, 70 FR 24533 (May 10, 2005).

¹⁵ See 19 CFR 351.303(b).

Commerce requests that any factual information the parties consider relevant to the scope of the investigation be submitted during this time period. However, if a party subsequently finds that additional factual information pertaining to the scope of the investigation may be relevant, the party may contact Commerce and request permission to submit the additional information. All such comments must be filed on the record of the concurrent AD and CVD investigations.

Filing Requirements

All submissions to Commerce must be filed electronically using Enforcement and Compliance's Antidumping Duty and Countervailing Duty Centralized Electronic Service System (ACCESS), unless an exception applies.¹⁶ An electronically filed document must be received successfully in its entirety by the time and date it is due.

¹⁶ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on using ACCESS can be found at https://access.trade.gov/help.aspx and a handbook can be found at https://access.trade.gov/help/Handbook%20on%20Electronic%20Filling%20Procedures.pdf.

Consultations

Pursuant to sections 702(b)(4)(A)(i) and (ii) of the Act, Commerce notified the GOC of the receipt of the Petition and provided it the opportunity for consultations with respect to the Petition.¹⁷ The GOC did not request consultations.

¹⁷ See Commerce's Letter, “Countervailing Duty Petition on Mattresses from the People's Republic of China: Invitation for Consultations to Discuss the Countervailing Duty Petition,” dated March 31, 2020.

Determination of Industry Support for the Petition

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁸ they do so for different purposes and pursuant to a separate and distinct authority. In addition, Commerce's determination is subject to limitations of time and information. Although this may result in different definitions of the like product, such differences do not render the decision of either agency contrary to law.¹⁹

¹⁸ See section 771(10) of the Act.

¹⁹ See USEC, Inc. v. United States, 132 F. Supp. 2d 1, 8 (CIT 2001) (citing Algoma Steel Corp., Ltd. v. United States, 688 F. Supp. 639, 644 (CIT 1988), aff'd 865 F. 2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigation.²⁰ Based on our analysis of the information submitted on the record, we have determined that mattresses, as defined in the scope, constitutes a single domestic like product, and we have analyzed industry support in terms of that domestic like product.²¹

²⁰ See Volume I of the Petitions at 13-16.

²¹ For a discussion of the domestic like product analysis as applied to this case and information regarding industry support, see China CVD Initiation Checklist at Attachment II, Analysis of Industry Support for the Antidumping and Countervailing Duty Petitions Covering Mattresses from Cambodia, China, Indonesia, Malaysia, Serbia, Thailand, Turkey, and Vietnam (Attachment II).

In determining whether the petitioners have standing under section 702(c)(4)(A) of the Act, we considered the industry support data contained in the Petition with reference to the domestic like product as defined in the “Scope of the Investigation,” in the appendix to this notice. To establish industry support, the petitioners provided the 2019 production of the domestic like product for the U.S. producers that support the Petition.²² The petitioners estimated the production of the domestic like product for the entire domestic industry based on the production data from the ITC's 2019 report from the AD investigation of mattresses from China.²³ We relied on data provided by the petitioners for purposes of measuring industry support.²⁴

²² See Volume I of the Petition at 3-4, Exhibit I-3, and Exhibit I-4; see also First General Issues Supplement at 2 and Exhibit I-Supp-1.

²³ See Volume I of the Petitions at 3-4 and Exhibit I-4; see also First General Issues Supplement at 2, Exhibit I-Supp-1, and Exhibit I-Supp-2; and Mattresses from China, Inv. No. 731-TA-1424 (Final), USITC Pub. 5000 (December 2019), at 17-25, II-1 to II-28.

²⁴ See Volume I of the Petitions at 3-4, Exhibit I-3, and Exhibit I-4; see also First General Issues Supplement at 2, Exhibit I-Supp-1, and Exhibit I-Supp-2. For further discussion, see Attachment II of the country-specific CVD Initiation Checklists.

On April 9, 2020 and April 10, 2020, respectively, we received comments on industry support from Ashley Furniture Industries, Inc. (Ashley), a domestic producer and importer of merchandise subject merchandise,²⁵ and Classic Brands, LLC (Classic Brands), an importer of subject merchandise.²⁶ The petitioners responded to industry support comments on April 13, 2020.²⁷ On April 17, 2020, we received surrebuttal comments from Ashley ²⁸ and Classic Brands ²⁹ with regard to the petitioners' April 13, 2020 comments. The petitioners responded to these surrebuttal industry support comments on April 20, 2020.³⁰

²⁵ See Ashley's Letter, “Mattresses from Cambodia, Indonesia, Malaysia, Serbia, Thailand, Turkey, Vietnam and China: Comments on Industry Support,” dated April 9, 2020.

²⁶ See Classic Brand's Letter, “Mattresses from Cambodia, China, Indonesia, Malaysia, Serbia, Thailand, Turkey, and Vietnam: Challenge to Petitioners' Standing,” dated April 10, 2020.

²⁷ See Petitioner's Letter, “Mattresses from Cambodia, China, Indonesia, Malaysia, Serbia, Thailand, Turkey, and Vietnam: Mattress Petitioners' Response to Ashley's Industry Support Claims,” dated April 13, 2020.

²⁸ See Ashley's Letter, “Mattresses from Cambodia, Indonesia, Malaysia, Serbia, Thailand, Turkey, Vietnam and China: Response to Petitioners' Comments on Industry Support,” dated April 17, 2020.

²⁹ See Classic Brand's Letter, “Mattresses from Cambodia, China, Indonesia, Malaysia, Serbia, Thailand, Turkey, and Vietnam: Classic Brands's Surrebuttal on Petitioners' Standing,” dated April 17, 2020.

³⁰ See Petitioners' Letter, “Mattresses from Cambodia, China, Indonesia, Malaysia, Serbia, Thailand, Turkey, and Vietnam: Mattress Petitioners' Response to Industry Support Claims Filed on April 17, 2020 by Ashley and Classic Brands,” dated April 20, 2020.

Our review of the data provided in the Petition, the General Issues Supplement, and other information readily available to Commerce indicates that the petitioners have established industry support for the Petition.³¹ First, the Petition established support from domestic producers (or workers) accounting for more than 50 percent of the total production of the domestic like product and, as such, Commerce is not required to take further action in order to evaluate industry support (e.g., polling).³² Second, the domestic producers (or workers) have met the statutory criteria for industry support under section 702(c)(4)(A)(i) of the Act because the domestic producers (or workers) who support the Petition account for at least 25 percent of the total production of the domestic like product.³³ Finally, the domestic producers (or workers) have met the statutory criteria for industry support under section 702(c)(4)(A)(ii) of the Act because the domestic producers (or workers) who support the Petitions account for more than 50 percent of the production of the domestic like product produced by that portion of the industry expressing support for, or opposition to, the Petition.³⁴ Accordingly, Commerce determines that the Petition was filed on behalf of the domestic industry within the meaning of section 702(b)(1) of the Act.³⁵

³¹ See Attachment II of the country-specific CVD Initiation Checklists.

³² Id.; see also section 702(c)(4)(D) of the Act.

³³ See Attachment II of the country-specific AD Initiation Checklists.

³⁴ Id.

³⁵ Id.

Injury Test

Because China is a “Subsidies Agreement Country” within the meaning of section 701(b) of the Act, section 701(a)(2) of the Act applies to this investigation. Accordingly, the ITC must determine whether imports of the subject merchandise from China materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioners allege that subject imports exceed the negligibility threshold provided for under section 771(24)(A) of the Act.³⁶

³⁶ See Volume I of the Petitions, at 17-18 and Exhibit I-12.

The petitioners contend that the industry's injured condition is illustrated by a significant and increasing volume of subject imports; reduced market share; underselling and price depression or suppression; lost sales and revenues; declining production, capacity utilization, and sales volumes; declining employment variables; and a decline in financial performance and profitability.³⁷ We assessed the allegations and supporting evidence regarding material injury, threat of material injury, causation, as well as negligibility and cumulation, and we have determined that these allegations are properly supported by adequate evidence, and meet the statutory requirements for initiation.³⁸

³⁷ See Volume I of the Petitions, at 28-46 and Exhibits I-8 through I-18; see also First General Issues Supplement, at Exhibit I-Supp-2.

³⁸ See country-specific CVD Initiation Checklists at Attachment III, Analysis of Allegations and Evidence of Material Injury and Causation for the Antidumping and Countervailing Duty Petitions Covering Mattresses from Cambodia, China, Indonesia, Malaysia, Serbia, Thailand, Turkey, and Vietnam (Attachment III).

Initiation of CVD Investigation

Based upon the examination of the Petition on mattresses from China, we find that the Petition meets the requirements of section 702 of the Act. Therefore, we are initiating a CVD investigation to determine whether imports of mattresses from China benefit from countervailable subsidies conferred by the GOC. Based on our review of the Petition, we find that there is sufficient information to initiate a CVD investigation on 13 of the 19 alleged programs. For a full discussion of the basis for our decision to initiate (or not to initiate) on each program, see CVD Initiation Checklist. A public version of the initiation checklist for this investigation is available on ACCESS. In accordance with section 703(b)(1) of the Act and 19 CFR 351.205(b)(1), unless postponed, we will make our preliminary determination no later than 65 days after the date of this initiation.

Respondent Selection

The petitioners named 46 companies in China as producers/exporters of mattresses.³⁹ Commerce intends to follow its standard practice in CVD investigations and calculate company-specific subsidy rates in this investigation. In the event Commerce determines that the number of companies is large and it cannot individually examine each company based upon Commerce's resources, where appropriate, Commerce intends to select respondents based on U.S. Customs and Border Protection (CBP) data for U.S. imports of mattresses from China during the POI under the appropriate Harmonized Tariff Schedule of the United States numbers listed in the “Scope of the Investigation,” in the appendix.

³⁹ See Volume I of the Petition at Exhibit I-7.

On April 14, 2020, Commerce released CBP data for U.S. imports of mattresses from China under Administrative Protective Order (APO) to all parties with access to information protected by APO and indicated that interested parties wishing to comment regarding the CBP data and respondent selection must do so within three business days of the publication date of the notice of initiation of this CVD investigation.⁴⁰ Commerce will not accept rebuttal comments regarding the CBP data or respondent selection. Interested parties must submit applications for disclosure under APO in accordance with 19 CFR 351.305(b). Instructions for filing such applications may be found on the Commerce's website at http://enforcement.trade.gov/apo.

⁴⁰ See Memorandum to the File, “Countervailing Duty Petition on Mattresses from the People's Republic of China: Release of Customs Data from U.S. Customs and Border Protection,” dated April 14, 2020.

Comments must be filed electronically using ACCESS. An electronically filed document must be received successfully, in its entirety, by ACCESS no later than 5:00 p.m. on the date noted above, unless an exception applies. Commerce intends to finalize its decision regarding respondent selection within 20 days of the publication of this notice.

Distribution of Copies of the Petition

In accordance with section 702(b)(4)(A) of the Act and 19 CFR 351.202(f), a copy of the public version of the Petition has been provided to the GOC via ACCESS.

Furthermore, to the extent practicable, Commerce will attempt to provide a copy of the public version of the Petition to each exporter named in the Petition, as provided under 19 CFR 351.203(c)(2).

ITC Notification

Commerce will notify the ITC of its initiation, as required by section 702(d) of the Act.

Preliminary Determination by the ITC

The ITC will preliminarily determine, within 45 days after the date on which the Petition was filed, whether there is a reasonable indication that imports of mattresses from China are materially injuring or threatening material injury to a U.S. industry.⁴¹ A negative ITC determination will result in the investigation being terminated.⁴² Otherwise, this CVD investigation will proceed according to statutory and regulatory time limits.

⁴¹ See section 733(a) of the Act.

⁴² Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Any party, when submitting factual information, must specify under which subsection of 19 CFR 351.102(b)(21) the information is being submitted ⁴³ and, if the information is submitted to rebut, clarify, or correct factual information already on the record, to provide an explanation identifying the information already on the record that the factual information seeks to rebut, clarify, or correct.⁴⁴ Time limits for the submission of factual information are addressed in 19 CFR 351.301, which provides specific time limits based on the type of factual information being submitted. Parties wishing to submit factual information in this investigation are asked to review the regulations prior to submitting factual information in this investigation.

⁴³ See 19 CFR 351.301(b).

⁴⁴ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, standalone submission; under limited circumstances Commerce will grant untimely-filed requests for the extension of time limits. Parties should review Extension of Time Limits; Final Rule, 78 FR 57790 (September 20, 2013), available at http://www.gpo.gov/fdsys/pkg/FR-2013-09-20/html/2013-22853.htm, prior to submitting extension requests or factual information in this investigation.

Certification Requirements

Any party submitting factual information in an AD or CVD proceeding must certify to the accuracy and completeness of that information.⁴⁵ Parties must use the certification formats provided in 19 CFR 351.303(g).⁴⁶ Commerce intends to reject factual submissions if the submitting party does not comply with the applicable certification requirements.

⁴⁵ See section 782(b) of the Act.

⁴⁶ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. Instructions for filing such applications may be found on the Commerce website at http://enforcement.trade.gov/apo. Parties wishing to participate in this investigation should ensure that they meet the requirements of 19 CFR 351.103(d) (e.g., by filing a letter of appearance). Note that Commerce has temporarily modified certain of its requirements for serving documents containing business proprietary information, until May 19, 2020, unless extended.⁴⁷

⁴⁷ See Temporary Rule Modifying AD/CVD Service Requirements Due to COVID-19, 85 FR 17006 (March 26, 2020).

This notice is issued and published pursuant to sections 702 and 777(i) of the Act and 19 CFR 351.203(c).

Dated: April 20, 2020.
Jeffrey I. Kessler,
Assistant Secretary for Enforcement and Compliance.

Appendix—Scope of the Investigation

The products covered by this investigation are all types of youth and adult mattresses. The term “mattress” denotes an assembly of materials that at a minimum includes a “core,” which provides the main support system of the mattress, and may consist of innersprings, foam, other resilient filling, or a combination of these materials. Mattresses may also contain (1) “upholstery,” the material between the core and the top panel of the ticking on a single-sided mattress, or between the core and the top and bottom panel of the ticking on a double-sided mattress; and/or (2) “ticking,” the outermost layer of fabric or other material (e.g., vinyl) that encloses the core and any upholstery, also known as a cover.

The scope of this investigation is restricted to only “adult mattresses” and “youth mattresses.” “Adult mattresses” are frequently described as “twin,” “extra-long twin,” “full,” “queen,” “king,” or “California king” mattresses. “Youth mattresses” are typically described as “crib,” “toddler,” or “youth” mattresses. All adult and youth mattresses are included regardless of size or size description.

The scope encompasses all types of “innerspring mattresses,” “non-innerspring mattresses,” and “hybrid mattresses.” “Innerspring mattresses” contain innersprings, a series of metal springs joined together in sizes that correspond to the dimensions of mattresses. Mattresses that contain innersprings are referred to as “innerspring mattresses” or “hybrid mattresses.” “Hybrid mattresses” contain two or more support systems as the core, such as layers of both memory foam and innerspring units.

“Non-innerspring mattresses” are those that do not contain any innerspring units. They are generally produced from foams (e.g., polyurethane, memory (viscoelastic), latex foam, gel-infused viscoelastic (gel foam), thermobonded polyester, polyethylene) or other resilient filling.

Mattresses covered by the scope of this investigation may be imported independently, as part of furniture or furniture mechanisms (e.g., convertible sofa bed mattresses, sofa bed mattresses imported with sofa bed mechanisms, corner group mattresses, day-bed mattresses, roll-away bed mattresses, high risers, trundle bed mattresses, crib mattresses), or as part of a set in combination with a “mattress foundation.” “Mattress foundations” are any base or support for a mattress. Mattress foundations are commonly referred to as “foundations,” “boxsprings,” “platforms,” and/or “bases.” Bases can be static, foldable, or adjustable. Only the mattress is covered by the scope if imported as part of furniture, with furniture mechanisms, or as part of a set, in combination with a mattress foundation.

Excluded from the scope of this investigation are “futon” mattresses. A “futon” is a bi-fold frame made of wood, metal, or plastic material, or any combination thereof, that functions as both seating furniture (such as a couch, love seat, or sofa) and a bed. A “futon mattress” is a tufted mattress, where the top covering is secured to the bottom with thread that goes completely through the mattress from the top through to the bottom, and it does not contain innersprings or foam. A futon mattress is both the bed and seating surface for the futon.

Also excluded from the scope are airbeds (including inflatable mattresses) and waterbeds, which consist of air- or liquid-filled bladders as the core or main support system of the mattress.

Also excluded is certain multifunctional furniture that is convertible from seating to sleeping, regardless of filler material or components, where that filler material or components are upholstered, integrated into the design and construction of, and inseparable from, the furniture framing, and the outermost layer of the multifunctional furniture converts into the sleeping surface. Such furniture may, and without limitation, be commonly referred to as “convertible sofas,” “sofa beds,” “sofa chaise sleepers,” “futons,” “ottoman sleepers” or a like description.

Also excluded from the scope of this investigation are any products covered by the existing antidumping duty orders on uncovered innerspring units from China or Vietnam. See Uncovered Innerspring Units from the People's Republic of China: Notice of Antidumping Duty Order, 74 FR 7661 (Feb. 19, 2009); Uncovered Innerspring Units From the Socialist Republic of Vietnam, 73 FR 75391 (Dec. 11, 2008).

Also excluded from the scope of this investigation are bassinet pads with a nominal length of less than 39 inches, a nominal width less than 25 inches, and a nominal depth of less than 2 inches.

Additionally, also excluded from the scope of this investigation are “mattress toppers.” A “mattress topper” is a removable bedding accessory that supplements a mattress by providing an additional layer that is placed on top of a mattress. Excluded mattress toppers have a nominal height of four inches or less.

The products subject to this investigation are currently properly classifiable under HTSUS subheadings: 9404.21.0010, 9404.21.0013, 9404.29.1005, 9404.29.1013, 9404.29.9085, and 9404.29.9087. Products subject to this investigation may also enter under HTSUS subheadings: 9404.21.0095, 9404.29.1095, 9404.29.9095, 9401.40.0000, and 9401.90.5081. Although the HTSUS subheadings are provided for convenience and customs purposes, the written description of the merchandise subject to this investigation is dispositive.

[FR Doc. 2020-08844 Filed 4-23-20; 8:45 am]

BILLING CODE 3510-DS-P